ENVIRONMENTAL PROTECTION AGENCY

40 CFR Part 61

[FRL-7405-5]

RIN 2060-AJ87

National Emission Standard for Benzene Waste Operations

AGENCY: Environmental Protection Agency (EPA).

ACTION: Proposed rule; amendments.

SUMMARY: We are proposing to amend the national emission standards for hazardous air pollutants (NESHAP) for benzene waste operations, promulgated on March 7, 1990 (55 FR 8346), under the authority of section 112 of the Clean Air Act (CAA). The amendments add an exemption for organic vapors routed to the fuel gas system and a new compliance option for tanks, and clarify the standards for containers.

In the Rules and Regulations section of this Federal Register, we are taking direct final action on the proposed amendments because we view this action as noncontroversial, and anticipate no adverse comment. We have explained our reasons for the amendments in the preamble to the direct final rule.

If we receive no adverse comment, we will take no further action on the proposed amendments. If we receive adverse comment, we will withdraw the direct final amendments and they will not take effect.

DATES: Comments. We must receive comments by December 12, 2002, unless a hearing is requested by November 22, 2002.

Public Hearing. If anyone contacts us requesting to speak at a public hearing by November 22, 2002, a public hearing will be held on November 27, 2002.

ADDRESSES: Comments. By U.S. Postal Service, send comments (in duplicate, if possible) to: Air and Radiation Docket and Information Center (6102T), Attention Docket No. A-2001-23, U.S. EPA, 1200 Pennsylvania Avenue, NW., Washington, DC 20460. In person or by courier, deliver comments (in duplicate, if possible) to: Air and Radiation Docket and Information Center (6102T), Attention Docket No. A-2001-23, Room B-108, U.S. EPA, 1301 Constitution Avenue, NW., Washington, DC 20460. We request a separate copy of each public comment be sent to the contact person listed below (see FOR FURTHER INFORMATION CONTACT).

Public Hearing. If a public hearing is held, it will begin at 10 a.m. and will be held at the U.S. EPA new facility complex in Research Triangle Park, North Carolina, or an alternative site nearby. You should contact Ms. JoLynn Collins, U.S. EPA, Research Triangle Park, NC 27711, telephone (919) 541-5671 to request a public hearing, to request to speak at a public hearing, or to find out if a hearing will be held.

Docket. Docket No. A-2001-23 contains supporting information used in developing the proposed amendments. The docket is located at the U.S. EPA, 1301 Constitution Avenue, NW., Washington, DC 20460 in room B-108, and may be inspected from 8:30 a.m. to 5:30 p.m., Monday through Friday, excluding legal holidays.

FOR FURTHER INFORMATION CONTACT: Mr. Robert B. Lucas, Waste and Chemical Process Group, Emission Standards Division (C439-03), Office of Air Quality Planning and Standards, U.S. EPA, Research Triangle Park, North Caroline 27711, telephone number (919) 541-0884, electronic mail (e-mail), lucas.bob@epa.gov.

SUPPLEMENTARY INFORMATION: For information concerning applicability and rule determinations, contact the appropriate regional representative:

U.S. EPA New England, Director, Air Compliance Programs, 1 Congress Street, Suite 1100 (SEA), Boston, MA 02114-2023. Phone contact: (617) 918-1656. FAX: (617) 918-1112.

U.S. EPA—Region II, Air Compliance Branch, 290 Broadway, New York, NY 10007-1866. Phone (212) 637-3000. FAX: (212) 637-3526.

U.S. EPA—Region III, Chief, Air Enforcement Branch (3AP12), 1650 Arch Street, Philadelphia, PA 19103-2029. Phone: (215) 814-3438. FAX: (215) 814-2134. Region III Office Website: www.epa.gov/reg3artd/hazpollut/hazairpol.htm.

U.S. EPA—Region IV, Air and Radiation Technology Branch, Atlanta Federal Center, 61 Forsyth Street, SW., Atlanta, GA 30303-3104. Phone: (404) 562-9105. FAX: (404) 562-9095.

U.S. EPA—Region V, Air Enforcement and Compliance Assurance Branch (AE17J), 77 West Jackson Boulevard, Chicago, IL 60604-3590. Phone: (312) 353-2088. FAX: (312) 353-8289.

U.S. EPA—Region VI, Chief, Toxics Enforcement Section (‸EN-AT), 1445 Ross Avenue, Dallas, TX 75202-2733. Phone: (214) 665-7224. FAX: (214) 665-2146. Region VI Office Website: www.epa.gov/region6.

Region VII, Bill Peterson, U.S. EPA, 726 Minnesota Avenue, Kansas City, KS 66101. Phone: (913) 551-7881. FAX: (913) 551-7467.

U.S. EPA—Region VIII, MACT Enforcement, 999 18th Street, Suite 500, Denver, Colorado 80202. Phone: (303) 312-6312. FAX: 303-312-6409.

U.S. EPA—Region IX, Air Division, 75 Hawthorne Street, San Francisco, CA 94105. Phone: (415) 744-1219. FAX: (415) 744-1076.

U.S. EPA—Region X, Office of Air Quality (OAQ-107), 1200 Sixth Avenue, Seattle, Washington 98101. Phone: (206) 553-4273. FAX: (206) 553-0110.

If no relevant adverse comments are received on the proposed amendments, no further action will be taken on the proposed amendments, and the direct final rule in the Rules and Regulations section of today's Federal Register will automatically become effective on the date specified in the direct final rule. If relevant adverse comments are received on the proposed amendments, we will publish a withdrawal action before the effective date of the direct final amendments indicating which provisions are being withdrawn. If all or part of the direct final amendments are withdrawn, all public comments received will be addressed in a subsequent final action based on the proposed amendments. We will not institute a second comment period on the subsequent final action. Any parties interested in commenting must do so during this comment period.

For further supplemental information, the rationale, and the specific amendments being proposed, see the information provided in the direct final rule in the Rules and Regulations section of this Federal Register.

Comments. Comments and data may be submitted by e-mail to a-and-r-docket@epa.gov. Electronic comments must be submitted as an ASCII file to avoid the use of special characters and encryption problems and will also be accepted on disks in WordPerfect ® format. All comments and data submitted in electronic form must note the docket number: A-2001-23. No confidential business information (CBI) should be submitted by e-mail. Electronic comments may be filed online at many Federal Depository Libraries.

Commenters wishing to submit proprietary information for consideration must clearly distinguish such information from other comments and label it as CBI. Send submissions containing such proprietary information directly to the following address, and not to the public docket, to ensure that proprietary information is not inadvertently placed in the docket: Attention Mr. Robert Lucas, c/o OAQPS Document Control Officer (C404-02), U.S. EPA, 109 TW Alexander Drive, Research Triangle Park, NC 27711. The EPA will disclose information identified as CBI only to the extent allowed by the procedures set forth in 40 CFR part 2. If no claim of confidentiality accompanies a submission when it is received by EPA, the information may be made available without further notice to the commenter.

Docket. The docket is an organized and complete file of all the information considered by EPA in the development of the proposed amendments. The docket is a dynamic file because information is added throughout the rulemaking process. The docketing system is intended to allow you to readily identify and locate documents so you can effectively participate in the rulemaking process. Along with the proposed and promulgated rules and their preambles, the contents of the docket will serve as the record in the case of judicial review. (See section 307(d)(7)(A) of the CAA.) The regulatory text and other materials related to the proposed amendments are available for review in the docket or copies may be mailed on request from the Air Docket by calling (202) 566-1742. We may charge a reasonable fee for copying docket materials.

You may also obtain docket indexes by facsimile as described on the Office of Air and Radiation, Docket and Information Center Website at http://www.epa.gov/airprogram/oar/docket/faxlist.html. Worldwide Web (WWW). In addition to being available in the docket, an electronic copy of the proposed amendments will also be available on the WWW. Following signature, a copy of the proposed amendments will be posted on the Technology Transfer Network (TTN) policy and guidance page for newly proposed or promulgated rules at http://www.epa.gov/ttn/oarpg. The TTN provides information and technology exchange in various areas of air pollution control. If more information regarding the TTN is needed, call the TTN HELP line at (919) 541-5384.

Regulated Entities. Categories and entities potentially regulated by this action include:

Category | SIC code | NAIC | Examples of regulated code entities
Industry | 2800's 2911 3312 4925 4953 9511 | 32512-325182 32411 331111 22121 562211 324110 | Chemical manufacturing plants, petroleum refineries, coke by-product recovery plants, and commercial hazardous waste treatment, storage, and disposal facilities that manage waste generated by these industries.
Federal government |  |  | Not affected.
State/local/tribal government |  |  | Not affected.

This table is not intended to be exhaustive, but rather provides a guide for readers regarding entities likely to be regulated by this action. To determine whether your facility is regulated by this action, you should examine the applicability criteria in 40 CFR 61.340 of the NESHAP for benzene waste operations. If you have any questions regarding the applicability of this action to a particular entity, consult the appropriate person listed in the preceding FOR FURTHER INFORMATION CONTACT section.

Administrative Requirements

For a complete discussion of all of the administrative requirements applicable to this action, see the direct final rule in the Rules and Regulations section of the Federal Register.

Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small not-for-profit enterprises, and small governmental jurisdictions.

The EPA determined that it is not necessary to prepare a regulatory flexibility analysis for the proposed amendments. The EPA has also determined that the proposed amendments will not impose a significant impact on a substantial number of small entities. There are few small entities in the industries required to meet the NESHAP for benzene waste operations, and it is unlikely that the regulated facilities are owned by small entities (55 FR 8340, March 7, 1990). In addition, the standard contains a cutoff for applicability of control requirements for sources generating small quantities of benzene waste. Therefore, a substantial number of small entities are not regulated by the proposed amendments. In addition, none of the facilities (large or small) are expected to experience any increase in compliance costs as a result of the proposed amendments. Therefore, pursuant to the provisions of 5 U.S.C. 605(b), it has been determined that the proposed amendments will not have a significant economic impact on a substantial number of small entities.

List of Subject in 40 CFR Part 61

Environmental protection, Air pollution control, Recordkeeping and reporting requirements.

Dated: November 1, 2002.
Christine Todd Whitman,
Administrator.

[FR Doc. 02-28500 Filed 11-8-02; 8:45 am]

BILLING CODE 6560-50-P